DEPARTMENT OF DEFENSE

Department of the Army

Record of Decision (ROD) for the Maneuver Center of Excellence (MCOE) Actions at Fort Benning, GA

AGENCY: Department of the Army, DoD.

ACTION: Record of Decision.

SUMMARY: The Department of the Army announces the availability of the ROD that implements MCOE actions at Fort Benning including construction, operation and maintenance of proposed operational facilities, training areas (including ranges and maneuver areas), and infrastructure to accommodate the consolidated Armor and Infantry missions of the MCOE and the increase in military personnel and students due to Army growth.

ADDRESSES: To obtain a copy of the ROD, contact Mr. John Brent, Fort Benning Directorate of Public Works, Environmental Management Division, 6650 Meloy Hall, Building 6, Room 308, Fort Benning, GA 31905, or e-mail to: john.brent@us.army.mil.

SUPPLEMENTARY INFORMATION: Two action alternatives were identified in the June 2009 MCOE Environmental Impact Statement (EIS) that would fulfill the purpose and need of the MCOE action: Alternative A and Alternative B. The No Action Alternative was also considered but it does not meet the purpose and need of the MCOE actions. The Army has identified Alternative A as its preferred alternative because it best meets the purpose and need of the MCOE actions. Of the two action alternatives, Alternative A is the environmentally preferred alternative.

The Army has decided to proceed with implementing the Preferred Alternative (Alternative A) consistent with the analysis in the MCOE EIS and supporting studies and comments provided during formal comment and review periods. Administrative, maintenance, barracks, commercial services, medical, community, dining, and recreation facilities would be constructed in three of the four cantonment areas: Main Post, Sand Hill, and Harmony Church. Additional construction in the ranges and maneuver areas include small- and large-caliber weapons ranges, heavy maneuver areas and corridors, drivers' training course, and vehicle recovery area to support the training requirements. In addition, MCOE activities will include a substantial long-term increase in training operations and associated land disturbance. Included in this EIS is an increase of 118 military personnel and 2,640 new military students (daily average) resulting from Grow the Army actions.

Special consideration was given to the effect of the preferred alternative on natural, cultural, and human environments. Mitigation measures, as described in the ROD, will be implemented to avoid, minimize, or compensate for the adverse effects identified in the MCOE EIS at Fort Benning for land use, operational noise, biological resources (fish and wildlife), water resources, cultural resources, and soils. Alternative B would also meet the MCOE purpose and need, but it was not selected because it would have substantially greater impacts on the red-cockaded woodpecker (RCW) and other natural and cultural resources. The No Action Alternative would not meet the Army's purpose and need for the MCOE actions. There are no differences between Alternatives A and B in impact to resources such as aesthetics and visual, socioeconomics, transportation, utilities, noise, hazardous and toxic materials and waste, and safety. Alternative A would impact fewer acres of soil and water resources than Alternative B resulting in substantially less impacts on biological resources, water resources, soils, and cultural resources. Impacts on land use and noise would be significant under both alternatives. Both alternatives will have significant impacts on special status species but Alternative B would have much greater impacts to the federally endangered RCW than Alternative A.

The Preferred Alternative includes actions to avoid or reduce adverse effects on federally listed species as identified in the Army's Biological Assessment and the U.S. Fish and Wildlife Service's Jeopardy Biological Opinion (JBO) including the Reasonable and Prudent Alternative, minimization measures, and terms and conditions. Even with these mitigation measures, impacts could still be potentially significant. Among the changes required by the JBO are the relocation of the Scout Leaders Course field training outside of Fort Benning boundaries to a location yet to be identified. This will further reduce impacts to environmental resources. This relocation action will be the subject of further National Environmental Policy Act analysis.

Substantive comments received on the Final ElS during the waiting period are addressed in the ROD.

An electronic version of the ROD is available at http://www.hqda.army.mil/acsim/brac/nepa_eis_docs.htm.

Dated: August 28, 2009.
Addison D. Davis, IV,
Deputy Assistant Secretary of the Army, (Environment, Safety and Occupational Health).

[FR Doc. E9-21300 Filed 9-3-09; 8:45 am]

BILLING CODE 3710-08-M